DEPARTMENT OF TRANSPORTATION

Federal Railroad Administration

Petition for a Waiver of Compliance

In accordance with Title 49, Code of Federal Regulations (CFR), §§ 211.9 and 211.41, notice is hereby given that the Federal Railroad Administration (FRA) has received a request for a waiver of compliance with certain requirements of Federal railroad safety regulations. The individual petition is described below, including the party seeking relief, the regulatory provisions involved, the nature of the relief being requested and the petitioner's arguments in favor of relief.

Michigan State Trust Railway Preservation, Inc.—FRA Waiver Petition Docket No. FRA-2003-15514

In 2001, Michigan State Trust Railway Preservation, Inc. (“MSTP”) and the Institute for Steam Railroading in conjunction with the Tuscola and Saginaw Bay Railway (TSBY) sought and was granted a waiver (Docket No. FRA-2001-10379) of compliance from Title 49, part 240 of the Code of Federal Regulations (49 CFR part 240)—Qualification and Certification of Locomotive Engineers. MSTP requested relief from that part of the regulation (49 CFR 240.201(d)) which provides that only certified persons may operate locomotives and trains. MSTP plans to offer noncertified persons the opportunity to operate a locomotive when participating in its “engineer-for-an-hour” program. The waiver would only apply to persons participating in the program. MSTP has purchased a second locomotive and now seeks to expand its operations to a third location.

The MSTP is a nonprofit educational corporation. It owns and operates a 1941 Lima-built steam locomotive. The locomotive, ex-Pere Marquette No. 1225, has operated approximately 6200 miles since 1988 over the general railroad system of transportation. The newly purchased and restored locomotive is Engine No. 75 (0-4-0). The MSTP is located at the steam locomotive restoration facility (Institute for Steam Railroading) in Owosso, Michigan. The MSTP gains access to TSBY trackage at this location. It does not own or control any trackage with the exception of two lead tracks extending from siding tracks, each approximately 130 feet in length. These tracks are leased from the TSBY. The MSTP plans to conduct this program in two of three locations. The first is the San Yard between Mile Post (MP) 105.2 on the TSBY track at the point where it meets the Central Michigan Railroad which is west of Legion Road to MP 106.1 and south of the highway/railroad grade crossing at Gould and Corunna Road. The second location is at the Henderson, Michigan Grain Elevator. It is on the St. Charles Branch of the TSBY between MP 70.2 and MP 69.2, north of the highway/railroad grade crossing at Riley Road. The third location is at the TSBY Shop Yard at their repair shops on the main line along Howard Street between mile markers 106.4 and 107. This operation will remain between the switch leading from the Main Track to the Scale Track with a Blue Flag placed to the east side of that switch. The proposed dates of operation will be three weekends between the months of May and October inclusive.

MSTP's reason for granting this waiver is two-folded. First, to accomplish a part of its mission statement, i.e., to educate the public on steam era railroad technology and its impact on the culture and economy of the Great Lakes Region. Second, to generate needed interest and revenue so that it may continue to educate the public about steam locomotive technology in an effort that the next generation will keep the knowledge and the 1225 alive into the future.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket No. FRA-2003-15514) and must be submitted to the Docket Clerk, DOT Central Docket Management Facility, Room PL-401, Nassif Building, 400 Seventh Street SW., Washington, DC 20590. Communications received within 45 days of the date of this notice will be considered by FRA before final action is taken. Comments received after that date will be considered as far as practicable. All written communications concerning these proceedings are available for examination during regular business hours at the above address. All written communications are also accessible on the Internet at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on September 8, 2003.
Grady C. Cothen, Jr.,
Deputy Associate Administrator for Safety Standards and Program Development.

[FR Doc. 03-23772 Filed 9-17-03; 8:45 am]

BILLING CODE 4910-06-P